CONSUMER PRODUCT SAFETY COMMISSION

16 CFR Parts 1630 and 1631

Technical Amendment to the Flammability Standards for Carpets and Rugs

AGENCY: Consumer Product Safety Commission.

ACTION: Final amendments.

SUMMARY: The Commission is amending the flammability standards for carpets and rugs to remove the reference to Eli Lilly Company Product No. 1588 in Catalog No. 79, December 1, 1969, as the standard ignition source and provide a technical specification defining the ignition source. The specification for the standard ignition source is a timed burning tablet, consisting of essentially pure methenamine, with a nominal heat of combustion value of 7180 calories/gram, a mass of 150 mg +/−5 mg, flat, and a nominal diameter of 6 mm. The amendment has an immediate effective date.

DATES: The amendment is effective October 26, 2007.

FOR FURTHER INFORMATION CONTACT: Patricia K. Adair, Project Manager, Directorate for Engineering Sciences, Consumer Product Safety Commission, Washington, DC 20207; telephone (301) 504-7536.

SUPPLEMENTARY INFORMATION:

A. Background

The standards for surface flammability of carpets and rugs appear at 16 CFR parts 1630 and 1631. They were codified and published in 1975, 40 FR 59931 and 59935 (December 30, 1975). The standards were originally issued in 1970 by the Department of Commerce under the authority of the Flammable Fabrics Act (FFA). Subpart A of 16 CFR parts 1630 and 1631 set forth the standards. Subpart B contains the implementing regulations of the standards. Subpart C contains alternative washing procedures for hide carpets and rugs and wool flotaki carpets and rugs. Subpart D of 16 CFR part 1630 contains the staff interpretations and policies.

16 CFR parts 1630 and 1631 establish minimum acceptance criteria for the surface flammability of carpets and rugs when exposed to a standard small source of ignition, a burning methenamine tablet, under prescribed conditions (the “pill test”). These standards reduce the risks of death, personal injury, and property damage associated with fires that result from the surface ignition of carpets and rugs.

Both standards require a timed burning tablet as the standard ignition source for flammability performance testing. The standards define the ignition source at 1630.1(f) and 1631.1(f) as a methenamine tablet, weighing approximately 0.149 grams (2.30 grains), sold as Product No. 1588 in Catalog No. 79, December 1, 1969 by the Eli Lilly Company, or an equal tablet.

In April 2002, Commission staff learned that the Eli Lilly Company was no longer producing the methenamine tablets specified in the carpet and rug standards. Although the standards allow for the use of “an equal” methenamine tablet and give parameters for chemical composition and weight of the tablet, they do not provide any guidance on determining whether tablets from alternative sources are “equal” to those manufactured by the Eli Lilly Company. In July 2003, CPSC staff met with representatives of the Carpet and Rug Institute (CRI) to discuss evaluation of alternative methenamine tablets for use in 16 CFR part 1630 and Part 1631. CRI members were experiencing differing test results using the old Eli Lilly tablets and currently available tablets. CRI members had begun to study the various characteristics of the current tablets. In one case, about 50% of one manufacturer's tablets were found broken in the bottle, with others breaking later. This problem was attributed to the tablets having a domed top. The problem has since been corrected with a flat tablet.

CRI urged the Commission to specify clearly the characteristics of the “equal” tablets that should be used for determining compliance to the carpet and rug standards. In an effort to make such a determination, the Commission staff conducted a comparison study to evaluate the weight, chemical composition, and combustion characteristics of presently available brands of methenamine tablets relative to each other and those produced by the Eli Lilly Company. The outcome of the study indicated that tablets consisting of essentially pure methenamine, having a heat of combustion value of approximately 7180 calories/gram and weighing approximately 0.149 grams may be considered equivalent to the tablets produced by the Eli Lilly Company and referenced in the regulation.

On July 29, 2004, the Commission's Office of Compliance issued a letter to industry in response to inquiries received by the CPSC staff regarding the equivalency of methenamine tablets formerly manufactured by the Eli Lilly Company and similar tablets currently produced by other manufacturers. The letter stated that the Commission staff determined that tablets consisting of essentially pure methenamine and weighing approximately 0.149 grams may be considered equivalent to the tablets formerly produced by the Eli Lilly Company. Therefore, tablets meeting these criteria may be used for purposes of determining conformance with the carpet and rug standards.

B. Amending the Flammability Standards

1. Outcome of Commission Testing

As mentioned above, the Eli Lilly Company is no longer producing the methenamine tablets specified in the carpet and rug standards. The standards allow for the use of “an equal” methenamine tablet and give parameters for chemical composition and weight of the tablet, but they do not provide any guidance on determining whether tablets from the alternative sources are “equal” to those manufactured by the Eli Lilly Company. The Commission staff conducted a comparison study to evaluate the weight, chemical composition, and combustion characteristics of presently available brands of methenamine tablets relative to each other and those produced by the Eli Lilly Company. The outcome of the Commission's comparative study indicated that tablets consisting of essentially pure methenamine, having a heat of combustion value of approximately 7,180 calories/gram and weighing approximately 0.149 grams may be considered equivalent to the tablets produced by the Eli Lilly Company and referenced in the regulation.

2. Proposed Amendment

On November 13, 2006, the Commission issued a Federal Register notice to amend the flammability standards for carpets and rugs to remove the reference to the Eli Lilly Company's tablet as the standard ignition source and provide a generic specification defining the ignition source at § 1630.1(f) and § 1631.1(f) and solicited public comments. The Commission received one comment in support of the proposal, and one objecting to flammability testing as a mandatory requirement and recommending that compliance with the standards be voluntary to avoid potential trade restrictions on woolen rugs.

On January 12, 2007, the Commission issued a Federal Register notice providing interested persons the opportunity for oral or written presentations regarding the proposed technical amendment to the flammability standards for carpets and rugs. No responses to the Federal Register notice were received.

3. Final Rule

The carpet and rug flammability standards were issued under section 4 of the FFA (15 U.S.C. 1193), which authorizes the issuance or amendment of flammability standards to protect the public against unreasonable risks of fire leading to death, personal injury, or significant property damage. As required by section 4(b) of the FFA, both standards are based on findings that they are needed to adequately protect the public against the unreasonable risk of the occurrence of fire leading to death, personal injury, or significant property damage.

Section 4(j)(1) of the Flammable Fabrics Act requires the Commission to prepare a final regulatory analysis before issuing a final rule. The regulatory analysis must contain a description of the potential benefits and costs of the regulation, a description of any alternatives to the final regulation, and a summary of any significant issues raised by the comments submitted during the public comment period. The Commission must also find that the benefits expected from the rule bear a reasonable relationship to its costs and that the rule imposes the least burdensome requirement which prevents or adequately reduces the risk of injury for which the regulation is being promulgated. 15 U.S.C. 1193(j)(2).

Potential Costs and Benefits

Since 2002, when production of the previous methenamine tablet was discontinued by its manufacturer, producers and importers of carpets and rugs that comply with the standards have been performing tests with “equivalent” methenamine tablets. The technical amendment will, therefore, maintain current industry practice. The technical amendment to redefine the methenamine tablet will have no significant impact on expected benefits or costs of the flammability standards for carpets and rugs.

4. Comments

The Commission received two comments on the proposed rule. The American Fiber Manufacturers Associated supported the technical amendment as proposed. The Permanent Mission of India to the World Trade Organization objected to flammability as a mandatory requirement and recommended that compliance with the standards be voluntary to avoid potential trade restrictions on woolen rugs. The Commission notes that the standards have been in effect since 1970; the amendment only provides a generic specification for the ignition source and will not alter the overall scope of the standards. Thus, the amendment will have no impact on U.S. or international trade.

Review of Other Existing Standards

The Commission staff is aware of one U.S. voluntary standard regarding the type of ignition source to be used in testing the flammability of carpets and rugs. This standard, ASTM D2859-04, “Standard Test Method for Ignition Characteristics of Finished Textile Floor Covering Materials,” describes the use of the Eli Lilly Tablet as satisfactory. It also states that “normal variation in the weight of the different tablets will not affect the test results.”

There is an existing international voluntary standard developed by the International Organization for Standardization in 1982 (ISO 6925), that describes a tablet test for the flammability of textile floor coverings. The prescribed tablets are of “hexamethylenetetramine, flat, having a mass of 150mg (plus or minus 5mg) and a diameter of 6mm.” The allowable variance is about 3.3%. The mass expressed in ISO 6925 is essentially equivalent to that specified in the U.S. Standards under the FFA. While the ISO standard did not identify the Eli Lilly tablet, it noted that the tablets were commercially available. Thus, the ISO-specified tablet is equivalent to the Eli Lilly tablet in its specifications.

Canada's 1973 mandatory standard for carpets and textile floor coverings under the Hazardous Products Act, CGSB 4-GP-2, also specifies in its appendix the Eli Lilly tablet as the ignition source. It notes that “normal variation in weight * * * will not affect the test results.”

5. Effective Date

Section 4(b) of the FFA (15 U.S.C. 1193(b)) provides that an amendment of a flammability standard shall become effective one year from the date it is promulgated, unless the Commission finds for good cause that an earlier or later effective date is in the public interest, and publishes that finding. Because manufacturers are already using “equal” methenamine tablets as allowed by the current standards, the Commission finds that an immediate effective date upon publication of the amendments is appropriate.

C. Other Issues

1. Impact on Small Businesses

In accordance with section 605(b) of the Regulatory Flexibility Act (5 U.S.C. 605(b)), in the proposed rule, the Commission preliminarily certified that these amendments to the carpet and rug flammability standards would not have a significant economic impact on a substantial number of small entities, including small businesses. 71 FR 66,145. No information available to the Commission since the issuance of the proposed rule warrants changing this preliminary certification. The amendments keep current industry practices and procedures in place. No additional actions will be required of small entities. Based on available information, there will be little or no effect on small producers of carpets and rugs, since the standards already require that all carpets and rugs meet the criteria of the tests, and, given the equivalence of the test tablets, the results of the tests should be the same. Accordingly, the Commission certifies that this final rule will not have a significant economic impact on a substantial number of small entities.

2. Environmental Considerations

The amendments fall within the categories of Commission actions described at 16 CFR 1021.5(c) that have little or no potential for affecting the human environment. The amendments are not expected to have a significant effect on production processes or on the types or amounts of materials used for the manufacture of carpets and rugs. The amendments will not render existing inventories unsalable, or require destruction of existing goods. The Commission has no information indicating any special circumstances in which these amendments may affect the human environment. For that reason, as discussed in the proposed rule, neither an environmental assessment nor an environmental impact statement is required. 71 FR 66145.

3. Executive Order 12988

Executive Order 12988, Civil Justice Reform, (February 5, 1996), requires that the Commission specify the preemptive effect, if any, to be given each new regulation. This technical amendment does not alter the preemptive effect of the underlying regulation.

List of Subjects in 16 CFR Parts 1630 and 1631

Carpets, Consumer protection, Flammable materials, Floor coverings, Labeling, Records, Rugs, Textiles, Warranties.

Conclusion

Therefore, pursuant to the authority of section 30(b) of the Consumer Product Safety Act (15 U.S.C. 2079(b)) and sections 4 and 5 of the Flammable Fabrics Act (15 U.S.C. 1193, 1194), the Commission hereby amends title 16 of the Code of Federal Regulations, Chapter II, Subchapter D, parts 1630 and 1631 to read as follows:

PART 1630—STANDARD FOR THE SURFACE FLAMMABILITY OF CARPETS AND RUGS

1. The authority for subpart A of part 1630 continues to read as follows:

Authority: Sec. 4, 67 Stat. 112, as amended, 81 Stat. 569-570; 15 U.S.C. 1193.

2. Section 1630.1(f) is revised to read as follows:

§ 1630.1 Definitions.

* * * * *

(f) Timed Burning Tablet (pill) means a methenamine tablet, flat, with a nominal heat of combustion value of 7180 calories/gram, a mass of 150 mg +/−5mg and a nominal diameter of 6mm.

* * * * *

3. Section 1630.4 is amended by revising the first sentence of paragraph (a) (3) to read as follows:

§ 1630.4 Test procedure.

(a) * * *

(3) Standard igniting source. A methenamine tablet, flat, with a nominal heat of combustion value of 7180 calories/gram, a mass of 150 mg +/−5 mg and a nominal diameter of 6mm. * * *

PART 1631—STANDARD FOR THE SURFACE FLAMMABILITY OF SMALL CARPETS AND RUGS

1. The authority for subpart A of part 1631 continues to read as follows:

Authority: Sec. 4, 67 Stat. 112, as amended, 81 Stat. 569-570; 15 U.S.C. 1193.

2. Section 1631.1(f) is revised to read as follows:

§ 1631.1 Definitions.

* * * * *

(f) Timed Burning Tablet (pill) means a methenamine tablet, flat, with a nominal heat of combustion value of 7180 calories/gram, a mass of 150 mg +/−5mg and a nominal diameter of 6mm.

* * * * *

3. Section 1631.4 is amended by revising the first sentence of paragraph (a)(3) to read as follows:

§ 1631.4 Test procedure.

(a) * * *

(3) Standard igniting source. A methenamine tablet, flat, with a nominal heat of combustion value of 7180 calories/gram, a mass of 150 mg +/−5 mg and a nominal diameter of 6mm. * * *

Dated: October 16, 2007.
Todd A. Stevenson,
Secretary, Consumer Product Safety Commission.

List of Relevant Documents

1. “Briefing Package: Technical Amendment to the Flammability Standards for Carpets and Rugs, 16 CFR part 1630 and 16 CFR part 1631,” U.S. Consumer Product Safety Commission, October 3, 2006.

2. Technical Amendment to the Flammability Standards for Carpets and Rugs; Proposed Amendments, 71 FR 66145 (November 13, 2006).

3. Proposed Technical Amendment to the Flammability Standards for Carpets and Rugs; Notice of Opportunity for Oral Comment, 72 FR 1472 (January 12, 2007).

[FR Doc. E7-20666 Filed 10-25-07; 8:45 am]

BILLING CODE 6355-01-P